FEDERAL COMMUNICATIONS COMMISSION

Performance Review Board

As required by the Civil Service Reform Act of 1978 (Pub. L. 95-454), Chairman Kevin J. Martin appointed the following executives to the Performance Review Board (PRB): Dana Shaffer, Michelle Carey, and Monica Desai.

Federal Communications Commission.
Marlene H. Dortch,
Secretary.

[FR Doc. E7-21794 Filed 11-5-07; 8:45 am]

BILLING CODE 6712-01-P